NUCLEAR REGULATORY COMMISSION

[Docket No. 70-3103]

Louisiana Energy Service's Proposed National Enrichment Facility; Notice of Availability of Final Environmental Impact Statement

AGENCY: Nuclear Regulatory Commission.

ACTION: Notice of availability of Final Environmental Impact Statement.

FOR FURTHER INFORMATION CONTACT: James Park, Project Manager, Environmental and Performance Assessment Directorate, Division of Waste Management and Environmental Protection, Office of Nuclear Material Safety and Safeguards, U.S. Nuclear Regulatory Commission, Washington, DC 20555. Telephone: (301) 415-5835; e-mail: jrp@nrc.gov.

SUMMARY: Notice is hereby given that the U.S. Nuclear Regulatory Commission (NRC) is issuing a Final Environmental Impact Statement (FEIS) on the proposed construction, operation, and decommissioning of the National Enrichment Facility (NEF), a gaseous centrifuge uranium enrichment facility, near Eunice, New Mexico. The FEIS is being issued as part of the NRC's decision-making process on whether to authorize Louisiana Energy Services (LES) to construct, operate, and decommission the proposed NEF.

The proposed NEF would produce enriched uranium-235 (²³⁵U) up to 5 weight percent by the gas centrifuge process with a nominal production of 3 million separative work units per year. The enriched uranium would be used in commercial nuclear power plants. The FEIS discusses the purpose and need for the proposed NEF, and reasonable alternatives to the proposed action, including the no-action alternative. The FEIS also discusses the environment potentially affected by the proposed action, presents and compares potential environmental impacts resulting from the proposed action and its alternatives, and identifies the mitigation measures proposed by LES to eliminate or lessen the potential environmental impacts.

Based on the evaluation in the FEIS, the NRC environmental review staff has concluded that the proposed action will generally have small to moderate effects on the public and the existing environment. This FEIS reflects the final analysis of environmental impacts of LES's proposal and its alternatives, including the consideration of public comments received by the NRC.

ADDRESSES: The NRC maintains an Agencywide Documents Access and Management System (ADAMS), which provides text and image files of NRC's public documents. The FEIS and its appendices may be accessed through the NRC's Public Electronic Reading Room on the Internet at http://www.nrc.gov/reading-rm/adams.html, using the ADAMS accession numbers ML051730238 and ML051730292 for Volumes 1 and 2 of the FEIS, respectively. If you do not have access to ADAMS or if there are problems in accessing the documents located in ADAMS, contact the NRC Public Document Room (PDR) Reference staff at 1-800-397-4209, 301-415-4737 or by email to pdr@nrc.gov.

The FEIS is also available for inspection at the Commission's Public Document Room, U.S. NRC's Headquarters Building, 11555 Rockville Pike (first floor), Rockville, Maryland. Upon written request and to the extent supplies are available, a single copy of the FEIS can be obtained for a fee by writing to the Office of the Chief Information Officer, Reproduction and Distribution Services Section, U.S. Nuclear Regulatory Commission, Washington, DC 20555-0001; by electronic mail at DISTRIBUTION@nrc.gov; or by fax at (301) 415-2289.

A selected group of documents associated with the NEF may also be obtained from the Internet on NRC's NEF Web page: http://www.nrc.gov/materials/fuel-cycle-fac/lesfacility.html (case sensitive).

SUPPLEMENTARY INFORMATION: The NRC staff has prepared this FEIS in response to a December 2003 application submitted by LES for a license to construct, operate and decommission a gas centrifuge uranium enrichment facility in Lea County, New Mexico. The FEIS for the proposed NEF was prepared by the staff of the NRC and its contractors, Advanced Technologies and Laboratories, International, Inc. and Pacific Northwest National Laboratory, in compliance with the National Environmental Policy Act (NEPA) and the NRC's regulations for implementing NEPA (10 CFR Part 51).

The NRC staff published a Notice of Intent to prepare an Environmental Impact Statement (EIS) for the proposed NEF and to conduct a scoping process, in the Federal Register on February 4, 2004 (69 FR 5374). The NRC staff accepted scoping comments through March 18, 2004, and subsequently issued a Scoping Summary Report in April 2004 (ADAMS Accession Number: ML041050128). The NRC staff prepared and issued a Draft EIS in September 2004; notice of the availability of the Draft EIS appeared in the Federal Register on September 17, 2004 (69 FR 56104). Public comments on the Draft EIS were accepted by the NRC staff until January 7, 2005. The NRC staff's responses to these comments and copies of the submitted comments are provided in appendices to the FEIS.

The FEIS describes the proposed action and alternatives to the proposed action, including the no-action alternative, and describes the proposed mitigation measures. The NRC staff assesses the impacts of the proposed action and its alternatives on public and occupational health, air quality, water resources, waste management, geology and soils, noise, ecology resources, land use, transportation, historical and cultural resources, visual and scenic resources, socioeconomics, accidents and environmental justice. Additionally, the FEIS analyzes and compares the costs and benefits of the proposed action.

After weighing the impacts, costs, and benefits of the proposed action and comparing alternatives, the NRC staff, in accordance with 10 CFR 51.91(d), sets forth its final NEPA recommendation regarding the proposed action. The NRC staff recommends that the proposed action be approved, unless safety issues mandate otherwise.

Dated at Rockville, Maryland, this 23rd day of June 2005.
For the Nuclear Regulatory Commission.
Scott C. Flanders,
Deputy Director, Environmental and Performance Assessment Directorate, Division of Waste Management and Environmental Protection, Office of Nuclear Material Safety and Safeguards.

[FR Doc. E5-3433 Filed 6-30-05; 8:45 am]

BILLING CODE 7590-01-P